DEPARTMENT OF TRANSPORTATION

Federal Highway Administration

[Docket No. FHWA-2017-0012]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by July 17, 2017

ADDRESSES: You may submit comments identified by DOT Docket ID Number FHWA-2017-0012 by any of the following methods:

Web site: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Esther Strawder, 202-366-6836, Office of Safety, Federal Highway Administration, Department of Transportation, 1200 New Jersey Avenue SE., Washington, DC 20590. Office hours are from: 8:30a.m. to 5 p.m., Monday through Friday, except Federal holidays.

SUPPLEMENTARY INFORMATION:

Title: Roadway Safety Data Capability Assessment.

Background: Federal Highway Administration (FHWA) is initiating a large-scale effort to expand its relationships with the States to develop a better understanding of their data capabilities and conditions of data collection. The effort, known as the Roadway Safety Data Capabilities Assessment, will be conducted in 50 States, the District of Columbia and Puerto Rico. The two major objectives are to (1) create a mechanism by which a national and State-specific gap analyses could be conducted to identify opportunities to improve capabilities and (2) provide tools and assistance to assist States in overcoming those gaps. The results will provide a detailed understanding (for FHWA and the States themselves) of the needs for complete, accurate roadway, crash, and traffic volume data for use in safety analysis. The assessment will yield both a quantitative understanding of each State's capability (using a capability maturity model) and State-specific action plans in the key areas of:

• Roadway inventory data collection and technical standards

• Data analysis tools and uses

• Data management and governance

• Data integration and expandability

• Performance management

The results will also be useful for States and FHWA in their efforts to develop programs and make improvements in roadway safety management.

Respondents: 50 State DOT participants the District of Columbia and Puerto Rico.

Frequency: Once every 5 years.

Estimated Average Burden per Response: Approximately 36 hours per participant over a year.

Estimated Total Annual Burden Hours: Approximately 1,728 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: May 11, 2017.
Michael Howell,
Information Collection Officer.

[FR Doc. 2017-09900 Filed 5-16-17; 8:45 am]

BILLING CODE 4910-22-P